DEPARTMENT OF COMMERCE

National Oceanic and Atmospheric Administration

ENVIRONMENTAL PROTECTION AGENCY

Minnesota and Texas Coastal Nonpoint Pollution Control Programs: Conditional Approvals, Final Findings Documents and Records of Decision

AGENCY: National Oceanic and Atmospheric Administration (NOAA), U.S. Department of Commerce, and the U.S. Environmental Protection Agency (EPA).

ACTION: Notice of conditional approval of Coastal Nonpoint Programs and availability of Final Findings Documents and Records of Decision for Minnesota and Texas.

SUMMARY: Notice is hereby given of the conditional approval of the Coastal Nonpoint Pollution Control Programs (coastal nonpoint programs) and of the availability of the Final Findings Documents and Records of Decision for Minnesota and Texas. Section 6217 of the Coastal Zone Act Reauthorization Amendments (CZARA) requires States and Territories with coastal zone management programs that have received approval under section 306 of the Coastal Zone Management Act to develop and implement coastal nonpoint programs.

NOAA and EPA have approved, with conditions, the coastal nonpoint programs submitted by Minnesota and Texas. In order to receive final approval of their programs, Minnesota and Texas will need to meet the conditions within the associated timeframes as indicated in the Final Findings Documents.

DATES: The conditional approval of the coastal nonpoint pollution control programs for Minnesota and Texas is effective upon the date of publication of this Notice in the Federal Register.

ADDRESSES: Copies of the Final Findings Documents are available on the NOAA Web site at http://www.ocrm.nos.noaa.gov/czm. Copies of the Final Findings and Records of Decision also may be obtained upon request from: Helen Farr, Coastal Programs Division (N/ORM3), Office of Ocean and Coastal Resource Management, NOS, NOAA, 1305 East-West Highway, Silver Spring, Maryland 20910, phone (301) 713-3155, x150, e-mail helen.farr@noaa.gov.

FOR FURTHER INFORMATION CONTACT: Helen Farr, NOAA, (301) 713-3155, x150; or Don Waye, EPA (202) 566-1170.

SUPPLEMENTARY INFORMATION: NOAA and EPA have prepared a Findings Document for each coastal nonpoint program submitted for approval. The Findings Documents were prepared by NOAA and EPA to provide the rationale for the agencies' decision to approve each State and Territory coastal nonpoint program. Proposed Findings documents, Environmental Assessments, and Findings of No Significant Impact prepared for the coastal nonpoint programs submitted by Minnesota and Texas were made available for public comment in the Federal Register on March 17, 2003 (68 FR 12675) and April 7, 2003 (68 FR 16787), respectively. No public comments were received on the programs.

In accordance with the National Environmental Policy Act (NEPA), NOAA has also prepared a Record of Decision on each program. The Record of Decision: (1) States what the decision was; (2) identifies all alternatives considered, specifying the alternative considered to be environmentally preferable; and (3) states whether all practicable means to avoid or minimize environmental harm from the alternative selected have been adopted.

In March 1996, NOAA published a programmatic environmental impact statement (PEIS) that assessed the environmental impacts associated with the approval of State and Territory coastal nonpoint programs. The PEIS forms the basis for the environmental assessments NOAA has prepared for each State and Territorial coastal nonpoint program submitted to NOAA and EPA for approval. In the PEIS, NOAA determined that the approval and conditional approval of coastal nonpoint programs will not result in any significant adverse environmental impacts and that these actions will have an overall beneficial effect on the environment. Because the PEIS served only as a “framework for decision” on individual State and Territorial coastal nonpoint programs, and no actual decision was made following its publication, NOAA has prepared a NEPA Record of Decision on each individual State and Territorial program submitted for review.

(Federal Domestic Assistance Catalog 11.419 Coastal Zone Management Program Administration).
Dated: October 9, 2003.
Alan Neuschatz,
Associate Assistant Administrator, Management and Budget Office, National Ocean Service, National Oceanic and Atmospheric Administration.
G. Tracy Mehan, III,
Assistant Administrator, Office of Water, Environmental Protection Agency.

[FR Doc. 03-26087 Filed 10-15-03; 8:45 am]

BILLING CODE 3510-08-M